DEPARTMENT OF HEALTH AND HUMAN SERVICES

Administration for Children and Families

Reallotment of FY 1999 Funds for Low Income Home Energy Assistance Program (LIHEAP)

AGENCY: Office of Community Services, ACF, DHHS.

ACTION: Notice of determination concerning funds available for reallotment.

SUMMARY: Notice is hereby given that a preliminary determination has been made that fiscal year (FY) 1999 Low Income Home Energy Assistance Program (LIHEAP) funds are available for reallotment to States, territories, and Tribes and tribal organizations receiving FY 2000 direct LIHEAP funding. No subgrantees or other entities may apply for the funds, Section 2607(b)(1) of the Low Income Home Energy Assistance Act (the Act), Title XXVI of the Omnibus Budget Reconciliation Act of 1981 (42 U.S.C. 8621 et seq.), as amended, requires that if the Secretary of the Department of Health and Human Services determines that, as of September 1 of any fiscal year, an amount in excess of certain levels allotted to a grantee for any fiscal year will not be used by the grantee during the fiscal year, the Secretary must notify the grantee and publish a notice in the Federal Register that such funds may be realloted to LIHEAP grantees during the following fiscal year. If reallotted, the LIHEAP block grant allocation formula will be used to distribute the funds. (No funds may be reallotted to entities that are not direct LIHEAP grantees during FY 2000). It has been determined that $496,085.78 may be available for reallotment during FY 2000. This determination is based on revised reports from the State of Wyoming and the Pala Band of Mission Indians, which were submitted to the Office of Community Services as required by 45 CFR 96.82.

The statute allows grantees who have funds unobligated at the end of the fiscal year for which they are awarded to request that they be allowed to carry over up to 10 percent of their allotments to the next fiscal year. Funds in excess of this amount must be returned to DHHS and are subject to reallotment under section 2607(b)(1) of the Act. The amount described in this notice was reported as unobligated FY 1999 funds in excess of the amount that the State of Wyoming and the Pala Band of Mission Indians could carry over to FY 2000.

The State of Wyoming was notified by certified mail that $493,063.78 of its FY 1999 funds may be allotted. Additionally, the Pala Band of Mission Indians was notified by certified mail that $3,022 of its FY 1999 funds may be reallotted. In accordance with section 2607(b)(3), the Chief Executive Officers of the State of Wyoming and of the Pala Band of Mission Indians have 30 days from the date of the letter to submit comments to: Donald Sykes, Director, Office of Community Services, 370 L'Enfant Promenade, SW., Washington, DC 20447. The comment period expires August 18, 2000.

After considering any comments submitted, the Chief Executive Officers will be notified of the decision, and the decision also will be published in the Federal Register. If funds are reallotted, they will be allocated in accordance with section 2604 of the Act and must be treated by LIHEAP grantees receiving them as an amount appropriated for FY 2000. As FY 2000 funds, they will be subject to all requirements of the Act, including section 2607(b)(2), which requires that a grantee obligate at least 90% of its total block grant allocation for a fiscal year by the end of the fiscal year for which the funds are appropriated, that is, by September 30, 2000.

FOR FURTHER INFORMATION CONTACT: Janet Fox, Director, Division of Energy Assistance, Office of Community Services, 370 L'Enfant Promenade, SW., Washington, DC 20447; telephone (202) 401-9351.

Dated: June 30, 2000
Donald Sykes,
Director, Office of Community Services.

[FR Doc. 00-18141 Filed 7-18-00; 8:45 am]

BILLING CODE 4184-01-M